NUCLEAR REGULATORY COMMISSION

10 CFR Parts 170 and 171

[NRC-2016-0081]

RIN 3150-AJ73

Revision of Fee Schedules; Fee Recovery for Fiscal Year 2017; Corrections

AGENCY: Nuclear Regulatory Commission.

ACTION: Final rule; correction.

SUMMARY: The U.S. Nuclear Regulatory Commission (NRC) published a final rule amending regulations that will become effective August 29, 2017. The fiscal year (FY) 2017 final fee rule, published June 30, 2017, amends the licensing, inspection, special project, and annual fees charged to NRC applicants and licensees. This document corrects the annual fees for fuel facility licensees.

DATES: Effective Date: These corrections are effective on August 29, 2017.

ADDRESSES: Please refer to Docket ID NRC-2016-0081 when contacting the NRC about the availability of information for this action. You may obtain publicly-available information related to this action by any of the following methods:

• Federal Rulemaking Web site: Go to http://www.regulations.gov and search for Docket ID NRC-2016-0081. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Michele Kaplan, Office of the Chief Financial Officer, U.S. Nuclear Regulatory Commission, Washington, DC 20555-0001, telephone: 301-415-5256, email: Michele.Kaplan@nrc.gov.

SUPPLEMENTARY INFORMATION: The NRC published a final rule amending its regulations in parts 170 and 171 of title 10 of the Code of Federal Regulations that will become effective August 29, 2017. The FY 2017 final fee rule, published June 30, 2017 (82 FR 30682), amends the licensing, inspection, special project, and annual fees charged to NRC applicants and licensees.

The FY 2017 final fee rule contained inadvertent errors in the calculation of the fuel facilities fee class annual fees. Although the fuel facilities total annual fee recovery amount was correctly calculated at $28.4 million, the NRC staff incorrectly calculated the prorated unpaid portion of Lead Cascade's annual fee to be spread among the six fee categories within the fee class for the remaining licensees. When prorating Lead Cascade's expected annual fee, the NRC staff mistakenly used the 1.E. fee category, which caused the calculated unpaid prorated amount to be higher than the actual prorated amount by $1.5 million. To correct this situation, the NRC staff lowered the amount to be recovered from the remaining licensees by $1.5 million. This rule, therefore, corrects fee categories 1.A.(1)(a), 1.A.(1)(b), 1.A.(2)(b), 1.A.(2)(c), 1.E., and 2.A.(1) in the table in § 171.16(d) and Table VIII in the portion of the final rule preamble that includes these fees.

Rulemaking Procedure

Under the Administrative Procedure Act (5 U.S.C. 553(b)), an agency may waive the normal notice and comment requirements if it finds, for good cause, that they are impracticable, unnecessary, or contrary to the public interest. As authorized by 5 U.S.C. 553(b)(3)(B) and (d)(3), the NRC finds good cause to waive notice and opportunity for comment on these amendments and to make this final rule effective on August 29, 2017, the effective date of the FY 2017 final rule. These amendments are necessary to correct an error in the NRC's fee calculations and do not involve changes to NRC policy or the exercise of agency discretion. Second, these amendments will have no adverse effect on any person or entity regulated by the NRC because these amendments will lower annual fees (if anything, these amendments will have a beneficial effect on the affected fee classes). For these reasons, an opportunity for comment would not be meaningful. These amendments need to be effective on August 29, 2017, the effective date of the FY 2017 final rule, in order to avoid incorrect payments by stakeholders in the affected fee classes and the consequent administrative burden on the NRC if refunds must be processed.

Correction of Errors

In FR Doc. 2017-13520, appearing on page 30682 in the Federal Register of Friday, June 30, 2017, the following corrections are made:

Correction to the Preamble

1. Beginning on page 30686, in section a., Fuel Facilities, Table VIII is corrected to read as follows:

Table VIII—Annual Fees for Fuel Facilities
Facility type (fee category) | FY 2016 final annual fee | FY 2017 final annual fee | Percentage change
High-Enriched Uranium Fuel (1.A.(1)(a)) | $7,867,000 | $7,255,000 | −7.8
Low-Enriched Uranium Fuel (1.A.(1)(b)) | 2,736,000 | 2,629,000 | −3.9
Limited Operations (1.A(2)(a)) | 0.0 | 0.0 | 0.0
Gas Centrifuge Enrichment Demonstration (1.A.(2)(b)) | 1,539,000 | 1,366,000 | −11.2
Hot Cell (and others) (1.A.(2)(c)) | 770,000 | 710,000 | −7.8
Uranium Enrichment (1.E.) | 3,762,000 | 3,470,000 | −7.8
UF6 Conversion and Deconversion (2.A.(1)) | 1,625,000 | 1,498,000 | −7.8

Correction to the Regulatory Text

§ 171.16 [Corrected]

2. On page 30705, in § 171.16, paragraph (d), in the table, correct fee categories 1.A.(1), 1.A.(2)(b) and (c), 1.E., and 2.A.(1) to read as follows:

§ 171.16 Annual fees: Materials licensees, holders of certificates of compliance, holders of sealed source and device registrations, holders of quality assurance program approvals, and government agencies licensed by the NRC.

* * * * *

(d) * * *

Schedule of Materials Annual Fees and Fees for Government Agencies Licensed by NRC
[See footnotes at end of table]
Category of materials licenses | Annual fees 1 2 3
1. Special nuclear material:
A. (1) Licenses for possession and use of U-235 or plutonium for fuel fabrication activities.
(a) Strategic Special Nuclear Material (High Enriched Uranium) [Program Code(s): 21213] | $7,255,000
(b) Low Enriched Uranium in Dispersible Form Used for Fabrication of Power Reactor Fuel [Program Code(s): 21210] | 2,629,000
(2) * * *
(b) Gas centrifuge enrichment demonstration facilities [Program Code(s): 21205] | 1,366,000
(c) Others, including hot cell facilities [Program Code(s): 21130, 21133] | 710,000
* * * * * * *
| ¹¹ N/A
E. Licenses or certificates for the operation of a uranium enrichment facility [Program Code(s): 21200] | 3,470,000
* * * * * * *
| 6,400
2. Source material:
A. (1) Licenses for possession and use of source material for refining uranium mill concentrates to uranium hexafluoride or for deconverting uranium hexafluoride in the production of uranium oxides for disposal. [Program Code: 11400] | 1,498,000
* * * * * * *
¹ Annual fees will be assessed based on whether a licensee held a valid license with the NRC authorizing possession and use of radioactive material during the current FY. The annual fee is waived for those materials licenses and holders of certificates, registrations, and approvals who either filed for termination of their licenses or approvals or filed for possession only/storage licenses before October 1, 2015, and permanently ceased licensed activities entirely before this date. Annual fees for licensees who filed for termination of a license, downgrade of a license, or for a possession-only license during the FY and for new licenses issued during the FY will be prorated in accordance with the provisions of § 171.17. If a person holds more than one license, certificate, registration, or approval, the annual fee(s) will be assessed for each license, certificate, registration, or approval held by that person. For licenses that authorize more than one activity on a single license (e.g., human use and irradiator activities), annual fees will be assessed for each category applicable to the license.
² Payment of the prescribed annual fee does not automatically renew the license, certificate, registration, or approval for which the fee is paid. Renewal applications must be filed in accordance with the requirements of parts 30, 40, 70, 71, 72, or 76 of this chapter.
³ Each FY, fees for these materials licenses will be calculated and assessed in accordance with § 171.13 and will be published in the Federal Register for notice and comment.

* * * * *

Dated at Rockville, Maryland, this 10th day of July 2017.
For the Nuclear Regulatory Commission.
Cindy Bladey,
Chief, Rules, Announcements and Directives Branch, Division of Administrative Services, Office of Administration.

[FR Doc. 2017-14717 Filed 7-18-17; 8:45 am]

BILLING CODE 7590-01-P